DEPARTMENT OF TRANSPORTATION

Federal Aviation Administration

Membership in the Grand Canyon Working Group of the National Parks Overflights Advisory Group Aviation Rulemaking Committee

AGENCIES: Federal Aviation Administration.

ACTION: Notice.

SUMMARY: The Federal Aviation Administration (FAA) and the National Park Service (NPS) are establishing a Grand Canyon Working Group within the National Parks Overflights Advisory Group (NPOAG) to provide advice and recommendations regarding the implementation of the National Parks Overflights Act of 1987 with respect to the Grand Canyon. To the extent that recommendations involve aviation rulemaking, the Working Group will also participate in the development of the rule(s). This notice informs the public of the establishment of the Grand Canyon Working Group, describes its structure and qualifications for membership, and provides for nominations for membership in the Working Group.

FOR FURTHER INFORMATION CONTACT: Lynne Pickard, Federal Aviation Administration, Senior Advisor for Environmental Policy, 800 Independence Ave. SW., Washington, DC 20591, telephone (202) 267-8767, E-mail: lynne.pickard@faa.gov or Karen Trevino, National Park Service, Natural Sounds Program, 1201 Oakridge Dr., Suite 350, Ft. Collins, CO, 80525, telephone (970) 225-3563, E-mail: Karen_Trevino@nps.gov.

DATES: Those interested in serving on the Grand Canyon Working Group should submit nominations to Ms. Pickard or Ms. Trevino on or before April 20, 2005. Electronic (E-mail) submissions are preferred.

SUPPLEMENTARY INFORMATION:

Background

The National Parks Overflights Act of 1987 (Pub. L. 100-91) requires actions by the Department of the Interior/National Park Service (DOI/NPS) and the Federal Aviation Administration (FAA) to provide for substantial restoration of the natural quiet and experience of the Grand Canyon National Park and for protection of public health and safety from adverse effects associated with aircraft overflights. The achievement of this mandate has been a challenge technically, as well as practically in terms of generating broad support for the means of accomplishing substantial restoration of natural quiet.

The NPS and the FAA are committed to providing the joint Federal leadership necessary to complete this task with the active participation of engaged stakeholders, including sovereign tribal governments. FAA and NPS envision a collaborative approach to the remaining work using the collective professional knowledge and judgment of interested stakeholders. The NPS and the FAA have engaged the services of the U.S. Institute for Environmental Conflict Resolution and Lucy Moore Associates to assist the agencies and stakeholders in the development of a final overflights plan for Grand Canyon National Park that will meet the goals of the National Parks Overflights Act of 1987 and be broadly supported by all parties. The National Parks Overflights Advisory Group (NPOAG) is an appropriate forum for bringing agencies, tribal governments, aviation, environmental and other interests together to address this issue. The NPOAG agreed with the establishment of a Grand Canyon Working Group at its meeting on February 23-24, 2005.

The NPS and the FAA, as required by the National Parks Air Tour Management Act of 2000, established the NPOAG in March 2001. By FAA Order No. 1110-138, signed by the FAA Administrator on October 10, 2003, the NPOAG became an Aviation Rulemaking Committee (ARC). The NPOAG was formed to provide continuing advice and counsel to the FAA Administrator and NPS Director with respect to commercial air tour operations over and near national parks and abutting tribal lands. The Administrator and Director may also request the NPOAG's advice and recommendations on safety, environmental, and other issues related to commercial air tour operations over a national park or tribal lands.

The NPOAG is comprised of a balanced group of representatives of general aviation, commercial air tour operators, environmental concerns, and Indian tribes. The Administrator and the Director (or their designees) serve as ex officio members of the group. Representatives of the Administrator and Director chair the NPOAG in alternating 1-year terms.

Structure of the Grand Canyon Working Group

The Grand Canyon Working Group will be comprised of 11 to 20 members to assure a representative and balanced group of agency, tribal, environmental, aviation and other interests. The Working Group will be co-chaired by a representative of the NPS and a representative of the FAA, and will be facilitated by a third-party neutral contracted through the U.S. Institute for Environmental Conflict Resolution. The Working Group will address issues related to the federal agencies legal mandate to achieve substantial restoration of natural quiet in the Grand Canyon from overflight noise; seek meaningful, realistic and implementable solutions; and achieve as much consensus as possible on an overflights plan among the multiple interests that have a stake in this issue.

The Working Group will be a self-contained group within the NPOAG with specific responsibility for Grand Canyon overflight matters, including but not limited to:

• Review of the overflights noise analysis in order to have confidence in the approach and results.

• Recommendations for a final overflights plan that provides for the substantial restoration of natural quiet and experience of the Grand Canyon National Park, including routes or corridors for commercial air tour operations that employ quiet aircraft technology, and for protection of public health and safety from adverse effects associated with aircraft overflights.

• Participation in the development of aviation regulations necessary to implement the recommendations.

The Working Group will report simultaneously to the NPOAG, the NPS, and the FAA. The products of the Working Group will be available for review by the full NPOAG, but will not be subject to NPOAG revision. The NPOAG as a whole may decide to add support to or express reservations on particular work products or recommendations. Current NPOAG members will not automatically be assigned to the Working Group; rather, they must be nominated. The intent of the NPOAG is to nominate at least two current members to the Working Group to enhance NPOAG support and connectivity.

The Working Group is anticipated to meet quarterly for 1 to 2 days and to review and exchange information and views between meetings via mail, telephone, and Email. Meetings will be held within reasonable geographic proximity to the Grand Canyon to minimize travel time and expenses of most participants. The first meeting is expected to occur in June 2005. The Working Group may be convened for approximately 3 years, assuming the need for aviation rulemaking activity and accompanying National Environmental Policy Act review following the Working Group's recommendations. The final overflights plan shall ensure that the restoration of natural quiet required by the National Parks Overflights Act is completed no later than April 22, 2008, in accordance with the Presidential memorandum of April 22, 1996.

Qualifications for Membership in the Grand Canyon Working Group

The NPS and the FAA seek nominees to the Working Group that have the following qualifications:

• Ability and authority to represent a key constituency

• Ability to participate effectively in the Working Group's responsibilities described in this notice

• Ability to attend meetings and commit time to the working effort

• Ability to generate ideas and options, and to appreciate the needs of others

• Ability to participate with respect for all points of view

• Ability to speak and act with authority when decisions are required

• Willingness to engage in good-faith efforts to seek solutions consistent with the mandate that can gain the broadest consensus

Based on a review of nominations in comparison to these qualifications, the NPS and the FAA will select a balanced group of agency, tribal, aviation, and environmental members.

Nominations for Working Group Membership

Nominations to serve on the Grand Canyon Working Group should be submitted in writing, either by Email (which is preferred) or regular mail to Ms. Pickard at the FAA or Ms. Trevino at the NPS [see addresses above under For Further Information Contact], and must be electronically dated or postmarked on or before April 20, 2005. Self-nominations are allowed. Nominations should address the nominee's abilities and experience with respect to the above qualifications and should include the following:

• Current job/position of nominee

• Group/Tribe/interest/constituency the nominee represents and their involvement with Grand Canyon overflights

• Nominee's background and/or expertise related to overflight noise at Grand Canyon

• Confirmation that nominee is prepared to dedicate the necessary time and resources

• Nominee's experience with negotiation and other collaborative processes

Dated: March 23, 2005.
William C. Withycombe,
FAA Western-Pacific Regional Administrator.

[FR Doc. 05-6201 Filed 3-29-05; 8:45 am]

BILLING CODE 4910-13-P